COMMISSION ON CIVIL RIGHTS

Notice of Public Meeting of the Oregon Advisory Committee to the U.S. Commission on Civil Rights

AGENCY: U.S. Commission on Civil Rights.

ACTION: Announcement of meeting.

SUMMARY: Notice is hereby given, pursuant to the provisions of the rules and regulations of the U.S. Commission on Civil Rights (Commission) and the Federal Advisory Committee Act that the Oregon Advisory Committee (Committee) will hold a community forum on Wednesday, May 2, 2018, from 2:00 p.m.-5:00 p.m. PST for the purpose of hearing public testimony on civil rights concerns of human and labor trafficking in the sex, agriculture, and forestry industries and equal protection violations and discrimination based upon race, national origin, religion, sex, disability, and/or age of survivors. It will also examine the effectiveness of state and local agency programs for trafficking survivors.

DATES: The meeting will be held on Wednesday, May 2, 2018, at 2:00 p.m. PST to 5:00 p.m. PST.

ADDRESSES: Chemeketa Woodburn Center, Room 110, 120 E Lincoln Street, Woodburn, OR 97071.

FOR FURTHER INFORMATION CONTACT: Ana Victoria Fortes (DFO) at afortes@usccr.gov or (213) 894-3437.

SUPPLEMENTARY INFORMATION: Members of the public are entitled to make comments during the open comment periods. Members of the public may also submit written comments; the comments must be received in the Regional Programs Unit within 30 days following the meeting. Written comments may be mailed to the Western Regional Office, U.S. Commission on Civil Rights, 300 North Los Angeles Street, Suite 2010, Los Angeles, CA 90012. They may be faxed to the Commission at (213) 894-0508, or emailed Ana Victoria Fortes at afortes@usccr.gov. Persons who desire additional information may contact the Regional Programs Unit at (213) 894-3437.

Records and documents discussed during the meeting will be available for public viewing prior to and after the meeting at https://facadatabase.gov/committee/meetings.aspx?cid=270. Please click on the “Meeting Details” and “Documents” links. Records generated from this meeting may also be inspected and reproduced at the Regional Programs Unit, as they become available, both before and after the meeting. Persons interested in the work of this Committee are directed to the Commission's website, https://www.usccr.gov, or may contact the Regional Programs Unit at the above email or street address.

Agenda

Opening Remarks (2:00-2:10 p.m.)

Panel—Labor Trafficking in the Agriculture and Forestry Industries (2:10-3:10 p.m.)

• Reyna Lopez, Executive Director, Pineros y Campesinos Unidos del Noroeste

• Carl Wilmsen, Executive Director, Northwest Forest Worker Center

• Joel Iboa, Chair, Governor's Environmental Justice Task Force

Open Public Comment (3:20 p.m.-4:55 p.m.)

Dated: April 11, 2018.
David Mussatt,
Supervisory Chief, Regional Programs Unit.

[FR Doc. 2018-07898 Filed 4-16-18; 8:45 am]

BILLING CODE P